DEPARTMENT OF HOMELAND SECURITY

[Docket No. DHS-2009-0001]

Homeland Security Information Network Advisory Committee

ACTION: Committee Management; Notice of Rescheduling of Federal Advisory Committee Teleconference Meeting.

SUMMARY: The Homeland Security Information Network Advisory Committee will hold a teleconference call on January, 26, 2009, to discuss implementation efforts associated with the Next Generation of the Homeland Security Information Network. This notice supersedes the notice announcing a teleconference meeting scheduled to take place on January 13, 2009. No teleconference call will take place on January 13, 2009. Teleconference call dates may be subject to change. Please contact Niklaus Welter in advance of the call to confirm that the call will take place.

DATES: The teleconference call will take place on Monday, 26 January, 2009, at 2-3 p.m. EST.

ADDRESSES: Members of the public may monitor the call by calling 1-800-882-3610 (Domestic Callers) or 1-412-380-2000 (International Callers), to be followed by this PIN 1782344#. Members of the public are welcome to monitor the call; however, the number of teleconference lines is limited and available on a first-come, first-served basis. Questions or Comments must be identified by DHS-2009-0001 and may be submitted by one of the following methods:

• Federal eRulemaking Portal:

• http://www.regulations.gov. Follow the instructions for submitting questions or comments.

• E-mail: Niklaus.Welter@dhs.gov. Include the docket number, DHS-2009-0001 in the subject line of the message.

• Fax: 202-282-8806.

• Mail: Niklaus Welter, Department of Homeland Security, 245 Murray Lane, SW., Building 410, Washington, DC 20528.

Instructions: All submissions received must include the words “Department of Homeland Security” and the docket number for this action. Comments received will be posted without alteration at http://www.regulations.gov, including any personal information provided.

Docket: For access to the docket to read background documents or comments received by the Homeland Security Information Network Advisory Committee, go to http://www.regulations.gov.

FOR FURTHER INFORMATION CONTACT: Niklaus Welter, 245 Murray Lane, SW., Bldg 410, Washington, DC 20528, Niklaus.Welter@dhs.gov, 202-282-8336, fax 202-282-8806.

SUPPLEMENTARY INFORMATION: Notice of this meeting is given under the Federal Advisory Committee Act, 5 U.S.C. App. (Pub. L. 92-463). This notice supersedes the notice published on January 07, 2009 (Docket No. DHS-2008-0204), announcing a teleconference meeting scheduled to take place on January 13, 2009. No teleconference call will take place on January 13, 2009. The Homeland Security Information Network Advisory Committee will have a conference call on January 26, 2009, to discuss implementation efforts associated with the Next Generation of the Homeland Security Information Network. The Homeland Security Information Network Advisory Committee provides advice and recommendations to the Secretary through the Director, Operations Coordination and Planning on matters relating to gathering and incorporating user requirements into the Homeland Security Information Network.

The Committee will discuss the above issues from approximately 2-3 p.m. EST. Teleconference Call dates may be subject to change. Please contact Niklaus Welter in advance of the call to confirm that the call will take place.

The chairperson of the Homeland Security Information Network Advisory Committee shall conduct the teleconference in a way that will, in his judgment, facilitate the orderly conduct of business. Please note that the teleconference may end early if all business is completed.

Information on Services for Individuals With Disabilities

For information on facilities or services for individuals with disabilities or to request special assistance at the meeting, contact Niklaus Welter as soon as possible.

Roger T. Rufe, Jr.,
Director, Operations Coordination and Planning.

[FR Doc. E9-445 Filed 1-12-09; 8:45 am]

BILLING CODE 4410-10-P